DEPARTMENT OF DEFENSE

Department of the Air Force

Notice of Intent (Noi) To Prepare an Environmental Assessment for Minuteman III and Peacekeeper Silo Elimination/Dismantlement Malmstrom Missile Field, Montana, F.E. Warren Missile Field, Wyoming, Vandenberg Air Force Base, CA

AGENCY: U.S. Air Force.

ACTION: Notice of intent.

SUMMARY: Pursuant to the National Environmental Policy Act (NEPA) of 1969, as amended (42 U.S.C. 4321, et seq.), the Council on Environmental Quality (CEQ) Regulations for Implementing the Procedural Provisions of NEPA (40 CFR parts 1500-1508), and Air Force policy and procedures (32 CFR part 989), the Air Force is issuing this notice to advise the public of its intent to prepare an EA to evaluate the potential environmental impacts of dismantling Minuteman III and Peacekeeper Missile Systems.

The dismantlement of Minuteman III and Peacekeeper silos is required by the new Strategic Arms Reduction Treaty (START) (February 5, 2011) and requires the Air Force to dismantle 103 non-operational Launch Facilities (LFs). The LFs and associated Missile Alert Facilities (MAFs) are located at the Malmstrom Missile Field (MF) (50 Minuteman LFs of the deactivated 564th Missile Squadron and 5 MAFs), F.E Warren MF (50 Peacekeeper LFs of the deactivated 400th Missile Squadron and 5 MAFs), and Vandenberg AFB (3 Test LFs). The treaty identified three possible methods for dismantlement including implosion, excavation, and backfill. The Treaty requires complete dismantlement of LFs by February 4, 2018. In order to meet the Treaty deadline, dismantlement activities could start as early as the summer of 2013.

Public scoping meetings are planned in the towns of Great Falls, Shelby, Choteau, and Conrad, Montana; and Cheyenne, Torrington, and Chugwater, Wyoming. The purpose of these meetings is to determine the scope of issues to be addressed and to help identify significant environmental issues to be analyzed in depth. Notice of the times and locations of the meetings will be made available to the community using the local news media. The schedule for the scoping meetings is as follows:

Date | Location | Time
December 5, 2011 | Choteau, MT | 6:30-8:30 p.m.
December 6, 2011 | Conrad, MT | 6:30-8:30 p.m.
December 7, 2011 | Great Falls, MT | 6:30-8:30 p.m.
December 8, 2011 | Shelby, MT | 6:30-8:30 p.m.
January 10, 2012 | Cheyenne, WY | 6:30-8:30 p.m.
January 11, 2012 | Torrington, WY | 6:30-8:30 p.m.
January 12, 2012 | Chugwater, WY | 6:30-8:30 p.m.

To ensure the Air Force will have sufficient time to fully consider public inputs on issues, written comments should be mailed for receipt no later than January 31, 2012.

Please direct written comments or requests for further information concerning the Minuteman III and Peacekeeper missile systems dismantlement EA to:

FOR FURTHER INFORMATION CONTACT: Please direct any written comments or requests for information to Ms Dana McIntyre, Compliance and Conservation Program Manager AFGSC/A7AN, 41 Orville Wright Avenue, Barksdale AFB, LA, 71110, ph: (318) 456-2407, email: Dana.McIntyre@barksdale.af.mil

Shannon N. Sanchez,
Acting Air Force Federal Register Liaison Officer.

[FR Doc. 2011-29691 Filed 11-16-11; 8:45 am]

BILLING CODE 5001-10-P